DEPARTMENT OF THE INTERIOR

National Park Service

[NPS-WASO-NRNHL-24687; PPWOCRADI0, PCU00RP14.R50000]

National Register of Historic Places; Notification of Pending Nominations and Related Actions

AGENCY: National Park Service, Interior.

ACTION: Notice.

SUMMARY: The National Park Service is soliciting comments on the significance of properties nominated before November 11, 2017, for listing or related actions in the National Register of Historic Places.

DATES: Comments should be submitted by December 20, 2017.

ADDRESSES: Comments may be sent via U.S. Postal Service and all other carriers to the National Register of Historic Places, National Park Service, 1849 C St. NW., MS 7228, Washington, DC 20240.

SUPPLEMENTARY INFORMATION: The properties listed in this notice are being considered for listing or related actions in the National Register of Historic Places. Nominations for their consideration were received by the National Park Service before November 11, 2017. Pursuant to section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State Historic Preservation Officers:

CALIFORNIA

Los Angeles County

Ellison, The, 15 Paloma Ave., Venice, SG100001905

Riverside County

Community Settlement House, (Latinos in 20th Century California MPS), 4366 Bermuda Ave., Riverside, MP100001906

PENNSYLVANIA

Berks County

Hotel Abraham Lincoln, 100 N. 5th St., Reading, SG100001908

Lycoming County

Lycoming Rubber Company, 1307 Park Ave., Williamsport, SG100001909

Montgomery County

Boyertown Burial Casket Company, 401 W. 4th St., East Greenville, SG100001910

Meyerhoff, Son and Company Building, 300 Cherry St., Pottstown, SG100001911

Philadelphia County

Howell and Brothers Paper Hangings Manufactory, 2101 Washington Ave., Philadelphia, SG100001912

WISCONSIN

Oconto County

Farnsworth Public Library, 715 Main St., Oconto, SG100001913

Additional documentation has been received for the following resource:

OREGON

Marion County

Odd Fellows Rural Cemetery, 2201 Commercial St. SE., Salem, AD13000707

Nominations submitted by Federal Preservation Officers:

The State Historic Preservation Officer reviewed the following nominations and responded to the Federal Preservation Officer within 45 days of receipt of the nominations and supports listing the properties in the National Register of Historic Places.

ALASKA

Kenai Peninsula Borough

Clam Cove Pictograph Site, Address Restricted, Port Alsworth vicinity, SG100001904

WYOMING

Park County

Pagoda Creek, Address Restricted, Wapiti vicinity, SG100001914

Authority: 60.13 of 36 CFR part 60.

Dated: November 17, 2017.
Christopher Hetzel,
Acting Chief, National Register of Historic Places/National Historic Landmarks Program.

[FR Doc. 2017-26168 Filed 12-4-17; 8:45 am]

BILLING CODE 4312-52-P